UTAH RECLAMATION MITIGATION AND CONSERVATION COMMISSION

Notice of Availability of the Final Environmental Assessment and Finding of No Significant Impact to Construct a Group-Site Campground in Diamond Fork Canyon, UT

AGENCY: Utah Reclamation Mitigation and Conservation Commission.

ACTION: Notice of availability.

SUMMARY: The Utah Reclamation Mitigation and Conservation Commission has issued a Final Environmental Assessment and Finding of No Significant Impact to construct a group-site campground in Diamond Fork Canyon in Utah County, Utah.

The new campground will have a capacity of approximately 475 people at one time and will replace group camp sites removed from the Diamond and Palmyra Campgrounds, which were reconstructed in the year 2000. The project will also provide additional group-site camping as a feature of the Diamond Fork System of the Central Utah Project.

A 1998 environmental assessment and associated decision documents prepared by the Mitigation Commission indicated that the group-site facilities removed from the Diamond and Palmyra Campgrounds would be replaced in a more favorable location and that the size and location would be analyzed in a separate analysis. This environmental analysis is a fulfillment of that 1998 commitment.

ADDRESSES: Copies of the Final Environmental Assessment and Finding of No Significant Impact can be obtained at the Utah Reclamation Mitigation and Conservation Commission, 102 W 500 S, Suite 315, Salt Lake City, Utah, 84101. They may also be viewed on the internet via the following Web address: http://www.mitigationcommission.gov/news.html.

FOR FURTHER INFORMATION CONTACT: Mr. Richard Mingo (801) 524-3146.

Dated: January 31, 2005.
Michael C. Weland,
Executive Director.

[FR Doc. 05-2547 Filed 2-9-05; 8:45 am]

BILLING CODE 4310-05-P